DEPARTMENT OF COMMERCE

International Trade Administration

[A-201-847]

Heavy Walled Rectangular Welded Carbon Steel Pipes and Tubes From Mexico: Final Results of Antidumping Duty Administrative Review; 2022-2023; Correction

AGENCY: Enforcement and Compliance, International Trade Administration, Department of Commerce.

ACTION: Notice; correction.

SUMMARY: The U.S. Department of Commerce (Commerce) published notice in the Federal Register on July 24, 2025, in which Commerce announced the final results of the 2022-2023 administrative review of the antidumping duty (AD) order on heavy-walled rectangular welded carbon steel pipes and tubes (HWR) from Mexico. This notice corrects the spelling of a non-examined company name that was inadvertently listed incorrectly as Acro Metal S.A. de C.V.

FOR FURTHER INFORMATION CONTACT: Katie Smith, AD/CVD Operations, Office II, Enforcement and Compliance, International Trade Administration, U.S. Department of Commerce, 1401 Constitution Avenue NW, Washington, DC 20230; telephone: (202) 482- 0557.

SUPPLEMENTARY INFORMATION:

Background

On June 24, 2025, Commerce published in the Federal Register the Final Results of the 2022-2023 administrative review ¹ of the antidumping duty order on HWR from Mexico. In it, we misspelled the company name “Arco Metal S.A. de C.V.” as “Acro Metal S.A. de C.V.”

¹ See Heavy Walled Rectangular Welded Carbon Steel Pipes and Tubes from Mexico: Final Results of Antidumping Duty Administrative Review; 2022-2023, 90 FR 34842 (July 24, 2025) (Final Results).

Correction

In the Federal Register of July 24, 2025, in FR Doc 2025-13985, on page 34843, within the table entitled, “Review Specific Rate for Non-Examined Companies,” correct the name of the third listed as follows: Arco Metal S.A. de C.V.

Notification to Interested Parties

This notice is issued and published in accordance with sections 751(a)(1) and 777(i) of the Tariff Act of 1930, as amended, and 19 CFR 351.221(b)(5).

Dated: July 29, 2025.
Christopher Abbott,
Deputy Assistant Secretary for Policy and Negotiations, performing the non-exclusive functions and duties of the Assistant Secretary for Enforcement and Compliance.

[FR Doc. 2025-14636 Filed 7-31-25; 8:45 am]

BILLING CODE 3510-DS-P